DEPARTMENT OF THE TREASURY

Submission for OMB Review; Comment Request

May 2, 2011.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 6, 2011 to be assured of consideration.

Financial Crimes Enforcement Network (FinCEN)

OMB Number: 1506-xxxx.

Title: Bank Secrecy Act Suspicious Activity Report (BSA-SAR)

Abstract: FinCEN is fielding a new system of record to support the collection and Dissemination of BSA data to law enforcement and other regulatory agencies. The BSA-SAR is a new dynamic information collection tool that will serve as the principle collection instrument to be used by financial institutions to record and report suspicious activity.

Type of Review: New Collection.

Affected Public: Businesses and Organizations.

Burden Hours: 2,670,560.

Bureau Clearance Officer: Russell Stephenson (202) 354-6012, Department of the Treasury, Financial Crimes Enforcement Network, P.O. Box 39, Vienna, VA 22183; (202) 354-6012.

OMB Reviewer: Shagufta Ahmed, Office of Management and Budget, New Executive Office Building, Room 10235, Washington, DC 20503; (202) 395-7873.

Robert Dahl,
Treasury PRA Clearance Officer.

[FR Doc. 2011-11071 Filed 5-5-11; 8:45 am]

BILLING CODE 4810-02-P